DEPARTMENT OF ENERGY

Federal Energy Regulatory Commission

[Project Nos. 2318-054,12252-036; Project Nos. 2318-053, 12252-035]

Erie Boulevard Hydro Power, L.P.; Hudson River—Black River Regulating District; Notice of Petitions for Declaratory Order

Take notice that on January 25, 2023, pursuant to Rule 207(a)(2) of the Federal

Energy Regulatory Commission's (Commission) Rules of Practice and Procedure, Hudson River—Black River Regulating District (District) filed a petition for declaratory order in Project Nos. 2318-053 and 12252-035 requesting the Commission declare that Erie Boulevard Hydro Power, L.P. (Erie Boulevard), the licensee for the E.J. West Project No. 2318, must continue to maintain a necessary property interest in the head created, owned, and controlled by the District as part of the Great Sacandaga Lake Project No. 12252 (GSL Project), as more fully explained in the petition.

On January 27, 2023, pursuant to Rule 207(a)(2) of the Commission's Rules of Practice and Procedure, Erie Boulevard filed a petition for declaratory order in Project Nos. 2318-054 and 12252-036 requesting the Commission declare that the Federal Power Act preempts the regulatory authority of the District to assess charges under state law to Erie for releases from the District's GSL Project and that the District is precluded from materially changing its operation of the GSL Project by diverting releases around Erie Boulevard's E.J. West Project No. 2318 or significantly modifying the timing of GSL Project releases without prior Commission authorization, as more fully explained in the petition.

Any person desiring to intervene or to protest these filings must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the petitioners.

Any person wishing to comment on the petitions may do so. The Commission encourages electronic submission of protests and interventions in lieu of paper using the “eFiling” link at http://www.ferc.gov. Persons unable to file electronically may mail similar pleadings to the Federal Energy Regulatory Commission, 888 First Street, NE, Washington, DC 20426. Hand delivered submissions in docketed proceedings should be delivered to Health and Human Services, 12225 Wilkins Avenue, Rockville, Maryland 20852.

In addition to publishing the full text of this document in the Federal Register, the Commission provides all interested persons an opportunity to view and/or print the contents of this document via the internet through the Commission's Home Page (http://ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact the Federal Energy Regulatory Commission at FERCOnlineSupport@ferc.gov or call toll-free, (886) 208-3676 or TYY, (202) 502-8659.

Comment Date: 5 p.m. Eastern time on March 6, 2023.

Dated: February 1, 2023.
Kimberly D. Bose,
Secretary.

[FR Doc. 2023-02557 Filed 2-6-23; 8:45 am]

BILLING CODE 6717-01-P